DEPARTMENT OF TRANSPORTATION

Federal Transit Administration

[FTA Docket No. FTA 2022-0011]

Agency Information Collection Activity Under OMB Review: All Stations Accessibility Program

AGENCY: Federal Transit Administration, Department of Transportation (DOT).

ACTION: Emergency clearance notice and request for comments.

SUMMARY: In compliance with the Paperwork Reduction Act of 1995, this notice announces that the Information Collection Request (ICR) abstracted below has been forwarded to the Office of Management and Budget (OMB) for emergency approval of a proposed information collection. DOT requests that OMB authorize this collection of information on or before June 15, 2022. Upon receiving the requested six-month emergency approval by OMB, DOT will follow the normal PRA procedures to obtain extended approval for this proposed information collection. The purpose of this collection is to enable States and local government authorities that operate legacy rail fixed guideway public transportation systems to apply for grant assistance under the All Stations Accessibility Program. DOT is requesting emergency approval due to the urgency of making the associated funds available to the States and local government authorities that meet the eligibility requirements under the law. The ICR describes the nature of the information collection and their expected burdens.

DATES: Comments on this proposal for emergency review should be submitted by June 17, 2022.

ADDRESSES: Written comments and recommendations for the proposed information collection should be sent within 15 days of publication of this notice to www.reginfo.gov/public/do/PRAMain. All comments received are part of the public record. Comments will generally be posted without change. Upon receiving the requested six-month emergency approval by OMB, FTA will follow the normal PRA procedures to obtain extended approval for this proposed information collection.

FOR FURTHER INFORMATION CONTACT: Kevin Osborn, Office of Program Management—Urbanized Area Program Division, 1200 New Jersey Avenue SE, Mail Stop TPM-11, Washington, DC 20590, (202) 366-7519 or Kevin.Osborn@dot.gov.

SUPPLEMENTARY INFORMATION: FTA requests public comment on this information collection, including (a) whether the proposed collection of information is necessary for the proper performance of the functions of the agency; (b) the accuracy of the agency's estimate of the burden (including hours and cost); (c) ways for FTA to enhance the quality, utility and clarity of the information collection; and (d) ways to minimize the burden of the collection of information on respondents, including through the use of automated collection techniques or other forms of information technology. Comments submitted in response to this notice will be summarized and/or included in the request for OMB approval of this information collection. The summaries below describe the nature of the information collection requirements (ICRs) and the expected burden. The requirements are being submitted for clearance by OMB as required by the PRA.

Title: All Stations Accessibility Program.

OMB Control Number: 2132-New.

Type of Request: Request for emergency approval of an information collection.

Abstract: The Bipartisan Infrastructure Law, enacted as the Infrastructure Investment and Jobs Act (Pub. L. 117-58), establishes a new All Stations Accessibility Program (ASAP) to provide Federal competitive grants to assist eligible entities in financing capital and planning projects to upgrade the accessibility of legacy rail fixed guideway public transportation systems for people with disabilities, including those who use wheelchairs, by increasing the number of existing stations or facilities for passenger use that meet or exceed the new construction standards of Title II of the Americans with Disabilities Act of 1990. Funding under this program can be used to repair, improve, modify, retrofit, or relocate infrastructure of legacy stations or facilities for passenger use, including load‐bearing members that are an essential part of the structural frame, to meet or exceed current ADA standards for buildings and facilities; or planning related to pursuing public transportation accessibility projects, assessments of accessibility, or assessments of planned modifications to legacy stations or facilities for passenger use.

FTA anticipates using an online, grant management system to collect the following information:

• Legal name of the applicant (i.e., the legal name of the business entity), as well as any other identities under which the applicant may be doing business.

• Address, telephone, and email contact information for the applicant.

• Legal authority under which the applicant is established.

• Name and title of the authorized representative of the applicant (who will attest to the required certifications).

• DOT may also require the identity of external parties involved in preparation of the application, including outside accountants, attorneys, or auditors who may be assisting the business entity that is applying for assistance under this program.

• The specific statutory criteria that the applicant meets for eligibility under this program. The statute defines eligible applicants as state or local government authorities. Accordingly, DOT will require the applicant to identify which of these categories they meet, and how.

• Other identification numbers, including but not limited to the Employer/Taxpayer Identification Number (EIN/TIN), Data Universal Numbering System (DUNS) number, Unique Entity Identifier under 2 CFR part 25, etc. All applicants will be required to have pre-registered with the System for Award Management (SAM) at https://sam.gov/SAM/.

• Description of the applicant's business operations, in sufficient detail to demonstrate how the applicant meets the statutory requirement as a municipality or community owned utility.

• Responses to evaluation criteria listed in the Notice of Funding Opportunity.

FTA estimates that it will take applicants approximately 10 hours to complete the application process. FTA estimates that grant recipients will spend another 4 hours, annually, submitting post-award reports. The burden estimate below accounts for the total amount of effort involved.

Respondents: States and Local Government Authority.

Estimated Average Total Annual Respondents: 20.

Estimated Average Total Responses: 40.

Estimated Annual Burden Hours: 280.

Estimated Annual Burden Hours per Respondent: 14 Hours.

Frequency: Annually.

Nadine Pembleton,
Deputy Associate Administrator for Administration, Office of Administration.

[FR Doc. 2022-11860 Filed 6-1-22; 8:45 am]

BILLING CODE 4910-57-P